DEPARTMENT OF COMMERCE

International Trade Administration

[A-570-849]

Certain Cut-To-Length Carbon Steel Plate From the People's Republic of China: Rescission of Antidumping Circumvention Inquiry

AGENCY: Enforcement and Compliance, International Trade Administration, Department of Commerce.

SUMMARY: The Department of Commerce (“the Department”) is rescinding the antidumping circumvention inquiry on certain cut-to-length carbon steel plate (“CTL plate”) from the People's Republic of China (“PRC”) that was initiated on February 10, 2016.

DATES: Effective April 12, 2017.

FOR FURTHER INFORMATION CONTACT: Lilit Astvatsatrian, Office IV, Enforcement & Compliance, International Trade Administration, Department of Commerce, 1401 Constitution Avenue NW., Washington, DC 20230; telephone: (202) 482-6412.

SUPPLEMENTARY INFORMATION:

Background

On October 2, 2003, the Department published an antidumping duty order on CTL plate from the PRC.¹ On February 10, 2016, in response to a request from Nucor Corporation and SSAB Enterprises LLC (collectively, “Domestic Producers”), the Department initiated a circumvention inquiry regarding the Order with respect to certain CTL plate with small amounts of specific alloying elements (chromium, titanium, and boron where there was no heat treatment).² On December 5, 2016, the Department extended the deadline for issuing the final determination in this circumvention inquiry until April 5, 2017.³ Subsequently, on March 20, 2017, the Department published antidumping and countervailing duty orders on certain carbon and alloy steel CTL plate from the PRC.⁴ On March 23, 2017, the Department issued a letter notifying interested parties of its intent to rescind this antidumping circumvention inquiry on CTL plate from the PRC.⁵ In that letter, the Department provided interested parties an opportunity to comment on its intention to rescind this antidumping circumvention inquiry.⁶ No parties commented on the letter.

¹ See Suspension Agreement on Certain Cut-To-Length Carbon Steel Plate From the People's Republic of China; Termination of Suspension Agreement and Notice of Antidumping Duty Order, 68 FR 60081 (October 21, 2003) (“Order”).

² See Certain Cut-To-Length Carbon Steel Plate From the People 's Republic of China: Initiation of Circumvention Inquiry on Antidumping Duty Order, 81 FR 8173 (February 18, 2016).

³ See Extension of Deadline for Final Determination for Anticircumvention Inquiry, dated December 5, 2016.

⁴ See Certain Carbon and Alloy Steel Cut-To-Length Plate From the People's Republic of China: Antidumping Duty Order, 82 FR 14349 (March 20, 2017); see also Certain Carbon and Alloy Steel Cut-To-Length Plate From the People's Republic of China: Countervailing Duty Order, 82 FR 14346 (March 20, 2017) (“CTL Alloy Steel Orders”).

⁵ See Certain Cut-To-Length Carbon Steel Plate (“CTL plate”) From the People's Republic of China (“PRC”): Intent to Rescind Antidumping Circumvention Inquiry, dated March 23, 2017 (“Letter of Intent to Rescind”).

⁶ See id at 2.

Rescission of Antidumping Circumvention Inquiry

As noted above, this antidumping circumvention inquiry pertains to certain CTL plate products from the PRC containing specified levels of alloying elements. However, there are now antidumping and countervailing duty orders on CTL plate from the PRC made of alloy steel, specifically “certain carbon and alloy steel hot-rolled or forged flat plate products not in coils, whether or not painted, varnished, or coated with plastics or other non-metallic substances (cut-to-length plate).” ⁷ Therefore, the Department is rescinding the instant circumvention inquiry, as this inquiry concerned products now covered by the CTL Alloy Steel Orders.

⁷ See CTL Alloy Steel Orders.

Administrative Protective Orders

This notice also serves as a final reminder to parties subject to an administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 781 of the Tariff Act of 1930, as amended, and 19 CFR 351.225.

Dated: April 5, 2017.
Ronald K. Lorentzen,
Acting Assistant Secretary, Enforcement and Compliance.

[FR Doc. 2017-07285 Filed 4-11-17; 8:45 am]

BILLING CODE 3510-DS-P